DEPARTMENT OF DEFENSE

Office of the Secretary

[Docket ID: DoD-2012-OS-0108]

Privacy Act of 1974; System of Records

AGENCY: Defense Information Systems Agency, DoD.

ACTION: Notice to alter a System of Records.

SUMMARY: The Defense Information Systems Agency proposes to alter a system of records in its existing inventory of record systems subject to the Privacy Act of 1974 (5 U.S.C. 552a), as amended. The blanket (k)(1) exemption applies to this systems of records to accurately describe the basis for exempting disclosure of classified information that is or may be contained in the records.

DATES: The proposed action will be effective on October 15, 2012 unless comments are received which result in a contrary determination.

Comments will be accepted on or before October 15, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301) 225-8158.

SUPPLEMENTARY INFORMATION: The Defense Information Systems Agency notices for system of records subject to the Privacy Act of 1974 (5 U.S.C. 552a), as amended, have been published in the Federal Register and are available from the address in FOR FURTHER INFORMATION CONTACT.

The proposed system report, as required by 5 U.S.C. 552a(r) of the Privacy Act of 1974, as amended, was submitted on July 23, 2012, to the House Committee on Oversight and Government Reform, the Senate Committee on Governmental Affairs, and the Office of Management and Budget (OMB) pursuant to paragraph 4c of Appendix I of OMB Circular No. A-130, “Federal Agency Responsibilities for Maintaining Records About Individuals,” dated February 8, 1996 (February 20, 1996, 61 FR 6427).

Dated: September 10, 2012.
Aaron Siegel,
Alternate OSD Federal Register Liaison Officer, Department of Defense.

KCIV.01

System name:

Records Relating to DISA Transaction under the Privacy Act of 1974 (February 22, 1993, 58 FR 10562)

* * * * *

Changes:

System ID:

Delete entry and replace with “K890.20”.

System name:

Delete entry and replace with “Privacy Act Records.”

System location:

Delete entry and replace with “Primary location: Defense Information Systems Agency (DISA), Chief Information Office (CIO), 6916 Cooper Ave., Ft. Meade, MD 20755-7901.

Decentralized locations: DISA Field Activities World-wide. Official mailing addresses are published as an Appendix to DISA's compilation of systems of records notices.”

Categories of individuals covered by the system:

Delete entry and replace with “All persons who request access to, information from, or amendment of records about themselves maintained by the Defense Information Systems Agency, under the provisions of the Privacy Act of 1974 (5 U.S.C. 552a), as amended.”

Categories of records in the system:

Delete entry and replace with “Full name, home address, telephone number, copy of current DISA identification badge, copy of driver's license, letters, memoranda, legal opinions, messages, and miscellaneous documents relating to an individual's request for access to, or amendment of, records concerning that person, including letters of denial, appeals, statements of disagreements, and related documents accumulated in processing requests received under the Privacy Act of 1974.”

Authority for maintenance of the system:

Delete entry and replace with “5 U.S.C. 301, Departmental Regulations; 5 U.S.C. 552a, The Privacy Act of 1974, as amended; Department of Defense (DoD) 5400.11-R, DoD Privacy Program; DISAI 210-225-2, DISA Privacy Program.”

Purpose(s):

Delete entry and replace with “This system is maintained for the purpose of processing access and amendment requests and administrative appeals under the Privacy Act; for the purpose of participating in litigation regarding agency action on such requests and appeals; and for the purpose of assisting the Defense Information Systems Agency in carrying out any other responsibilities under the Privacy Act.”

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD Blanket Routine Uses set forth at the beginning of the DISA's compilation of systems of records notices may apply to this system.

Policies and practices for storing, retrieving, accessing, retaining, and disposing of records in the system:

Storage:

Delete entry and replace with “Records may be stored on paper and electronic storage media.”

Retrievability:

Delete entry and replace with “Retrieve by full name.”

Safeguards:

Delete entry and replace with “Records are maintained in a controlled facility. Physical entry is restricted by the use of locks, guards, and is accessible only to authorized personnel. Electronic records are password protected and encrypted. Access to records is limited to person(s) responsible for servicing the record in performance of their official duties and who are properly screened and cleared for need-to-know.”

Retention and disposal:

Delete entry and replace with “Official Privacy Act requests are kept a minimum of 2 years. Requests denied but not appealed are destroyed after 5 years. Requests for access or amendment and appeal or denial are destroyed 4 years after final action or 3 years after adjudication by the courts, whichever is later. Control logs of accounting of disclosures are kept 5 years or in accordance with the approved disposition instructions for the related subject records, whichever is later. Records are destroyed by shredding, pulping, burning or degaussing.”

System manager(s) and address:

Delete entry and replace with “DISA Privacy Officer, Defense Information Systems Agency (DISA), Chief Information Office (CIO), 6916 Cooper Ave., Fort Meade, MD 20755-7901.”

Notification procedure:

Delete entry and replace with “Individuals seeking to determine whether information about themselves is contained in this system of records should address written inquiries to the Defense Information Systems Agency, Chief Information Office (CIO), 6916 Cooper Ave., Fort Meade, MD 20755-7901.

Written requests should contain the full name, home address, and telephone number of the requesting individual. The requester must present a copy of their current DISA identification badge or copy of their driver's license as proof of identity.”

Record access procedures:

Delete entry and replace with “Individuals seeking access to information about themselves contained in this system of records should address written inquiries to the Defense Information Systems Agency, Chief Information Office (CIO), 6916 Cooper Ave., Fort Meade, MD 20755-7901.

Written requests should contain the full name, home address, and telephone number of the requesting individual. The requester must present a copy of their current DISA identification badge or a copy of their driver's license as proof of identity.”

Contesting record procedures:

Delete entry and replace with “DISA's rules for accessing records, for contesting content and appealing initial agency determinations are published in DISA Instruction 210-225-2; 32 CFR part 316; or may be obtained from the DISA Privacy Officer.”

Record source categories:

Delete entry and replace with “Those individuals who submit initial requests and administrative appeals pursuant to the Privacy Act; the agency records searched in the process of responding to such requests and appeals.”

Exemptions claimed for the system:

Delete entry and replace with “An exemption rule for this system has been promulgated in accordance with requirements of 5 U.S.C. 553(b)(1), (2), and (3), and published in 32 CFR part 316.8. For additional information contact the system manager.”

[FR Doc. 2012-22551 Filed 9-12-12; 8:45 am]

BILLING CODE 5001-06-P